DEPARTMENT OF ENERGY

Federal Energy Regulatory Commission

[Project No. 2804-027]

Goose River Hydro, Inc.; Independence Hydro, LLC; Notice of Application for Transfer of License, and Soliciting Comments and Motions to Intervene

On June 6, 2012, Goose River Hydro, Inc. (transferor) and Independence Hydro, LLC (transferee) filed an application for the transfer of license for the Goose River Project (FERC No. 2804), located on the Goose River in Waldo County, Maine.

Applicants seek Commission approval to transfer the license for the Goose River Project from the transferor to the transferee.

Applicants' Contact: Transferor: Ms. Catherine Gleeson, President, Goose River Hydro, Inc., P.O. Box 402, Belfast, ME 04917, (540) 535-8137. Transferee: Mr. Clifford Ginn, Manager, Independence Hydro, LLC, 220 Maine Mall Road, South Portland, ME 01406, (207) 274-0001.

FERC Contact: Patricia W. Gillis (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-2804) in the docket number field to access the document. For assistance, call toll-free 1-866-208-3372.

Dated: June 14, 2012.
Kimberly D. Bose,
Secretary.

[FR Doc. 2012-15038 Filed 6-19-12; 8:45 am]

BILLING CODE 6717-01-P